DEPARTMENT OF THE TREASURY

Submission for OMB Review; Comment Request

July 15, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before August 25, 2005 to be assured of consideration.

Alcohol and Tobacco Tax and Trade Bureau (TTB)

OMB Number: 1513-0030.

Form Number: TTB F 5620.8.

Type of Review: Extension.

Title: Claim—Alcohol, Tobacco and Firearms Taxes.

Description: This form is used by taxpayers to show the basis for a credit remission and allowance of tax on loss of taxable articles, to request a refund or abatement on taxes excessively or erroneously collected and to request a drawback of tax paid on distilled spirits used in the production of non-beverage products.

Respondents: Business of other for-profit, Individuals or households, Not-for-profit institutions.

Estimated Number of Respondents: 10,000.

Estimated Burden Hours Per Respondent: 1 hour.

Frequency of Response: Other (when needed).

Estimated Total Recordkeeping Burden: 10,000 hours.

OMB Number: 1513-0053.

Form Number: TTB 5120.17.

Type of Review: Extension.

Title: Report of Wine Premises Operations.

Description: This report is used to monitor wine operations, ensure collection of wine tax revenue, and ensure wine is produced in accordance with law and regulations. This report also provides raw data for TTBs monthly statistical release on wine.

Respondents: Business of other for-profit.

Estimated Number of Respondents: 1,755.

Estimated Burden Hours Per Respondent: 1 hour, 6 minutes.

Frequency of Response: Other (monthly OR annually).

Estimated Total Recordkeeping Burden: 10,642 hours.

OMB Number: 1513-0103.

Form Number: TTB F 5200.24 (formerly TTB F 5220.5) and TTB F 5200.25 (formerly TTB F 5210.13).

Type of Review: Extension.

Title: Tobacco Bond—Surety (formerly Corporate Surety Bond-Tobacco Products and Cigarette Papers and Tubes), and Tobacco Bond-Collateral (formerly Collateral Bond-Tobacco Products and Cigarette Papers and Tubes).

Description: TTB requires a corporate surety bond or a collateral bond to ensure payment of the excise tax on tobacco products (TP) and cigarette paper and tubes (CP&T) removed from the factory or warehouse. These TTB forms identify the agreement to pay and the person from which TTB will attempt to collect any unpaid excise tax. Manufactures of TP or CP&T, export warehouse proprietors and corporate sureties, if applicable, are the respondents for these forms and they are filed with collateral sufficient to cover the excise tax on TP and CP&T.

Respondents: Business of other for-profit.

Estimated Number of Respondents: 15.

Estimated Burden Hours Per Respondent: 1hour, 40 minutes.

Frequency of Response: On occasion.

Estimated Total Recordkeeping Burden: 25 hours.

Clearance Officer: Barbara M. Pearson, (202) 927-8527, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Lois K. Holland,
Treasury PRA Clearance Officer.

[FR Doc. 05-14648 Filed 7-25-05; 8:45 am]

BILLING CODE 4810-31-P